DEPARTMENT OF ENERGY

Federal Energy Regulatory Commission

[Docket No. EC01-135-000, et al.]

Wisconsin Public Services Corporation., et al.; Electric Rate and Corporate Regulation Filings

August 31, 2001.

Take notice that the following filings have been made with the Commission:

1. Wisconsin Public Service Corporation

[Docket No. EC01-135-000]

Take notice that on August 27, 2001, Wisconsin Public Service Corporation, the applicant in this proceeding, supplemented its August 2, 2001 application by providing a statement showing that the application is consistent with the public interest and requesting Commission action by October 10, 2001.

Copies of the filing were served upon Eagle River Light & Water Utility, Wisconsin Public Power, Inc., and the Wisconsin and Michigan public service commissions.

Comment date: September 17, 2001, in accordance with Standard Paragraph E at the end of this notice.

2. MIECO Inc.

[Docket No. ER98-51-011]

Take notice that MIECO Inc. (MIECO) on August 28, 2001 tendered for filing with the Federal Energy Regulatory Commission (Commission) a triennial update regarding MIECO's continued compliance with the Commission's standards for market-based rate authority.

Copies of the filing were served upon the official service list compiled by the Commission Secretary in this proceeding.

Comment date: September 18, 2001, in accordance with Standard Paragraph E at the end of this notice.

3. Timber Energy Resources, Inc., A Texas Corporation

[Docket No. ER01-1993-001]

Take notice that on August 28, 2001, Timber Energy Resources, Inc. (TERI) tendered for filing with the Federal Energy Regulatory Commission (Commission) a Notification of Change in Status regarding a change in the upstream ownership for its 14 MW waste wood-fired small power production facility located approximately one mile south of Telogia, Florida.

Comment date: September 18, 2001, in accordance with Standard Paragraph E at the end of this notice.

4. PSEG Waterford Energy LLC

[Docket No. ER01-2482-001]

Take notice that on August 28, 2001, PSEG Waterford Energy LLC (PSEG Waterford) tendered for filing a Compliance Filing Regarding Order Granting Rate Approval and Granting Certain Waivers and Blanket Approval. This filing is submitted in compliance with a letter order issued by the Federal Energy Regulatory Commission (Commission) on August 23, 2001, wherein the Commission accepted for filing PSEG Waterford's rate schedule for the wholesale sale of electric energy and capacity at market-based rates, subject to PSEG Waterford making one revision to its rate schedule.

Comment date: September 18, 2001, in accordance with Standard Paragraph E at the end of this notice.

5. SCANA Energy Marketing, Inc. and South Carolina Electric & Gas Company

[Docket No. ER01-2635-001]

Take notice that on August 24, 2001, Scana Energy Marketing, Inc. filed a Notice of Cancellation in conformance with Order No. 614 in conjunction with its earlier filing of July 19, 2001.

Comment date: September 14, 2001, in accordance with Standard Paragraph E at the end of this notice.

6. Entergy Services, Inc.

[Docket No. ER01-2932-000]

Take notice that on August 28, 2001, Entergy Services, Inc., on behalf of Entergy Arkansas, Inc., Entergy Gulf States, Inc., Entergy Louisiana, Inc., Entergy Mississippi, Inc., and Entergy New Orleans, Inc., (collectively, the Entergy Operating Companies) tendered for filing with the Federal Energy Regulatory Commission (Commission) a Non-Firm Point-To-Point Transmission Service Agreement and a Short-Term Firm Point-To-Point Transmission Service Agreement both between Entergy Services, Inc., as agent for the Entergy Operating Companies, and Entergy-Koch Trading, LP.

Comment date: September 18, 2001, in accordance with Standard Paragraph E at the end of this notice.

7. Entergy Services, Inc.

[Docket No. ER01-2933-000]

Take notice that on August 28, 2001, Entergy Services, Inc., on behalf of Entergy Arkansas, Inc., Entergy Gulf States, Inc., Entergy Louisiana, Inc., Entergy Mississippi, Inc., and Entergy New Orleans, Inc., (collectively, the “Entergy Operating Companies”) tendered for filing with the Federal Energy Regulatory Commission (Commission) a Non-Firm Point-To-Point Transmission Service Agreement and a Short-Term Firm Point-To-Point Transmission Service Agreement both between Entergy Services, Inc., as agent for the Entergy Operating Companies, and Mirant Americas Energy Marketing, LP.

Comment date: September 18, 2001, in accordance with Standard Paragraph E at the end of this notice.

8. PJM Interconnection, L.L.C.

[Docket No. ER01-2934-000]

Take notice that on August 28, 2001, PJM Interconnection, L.L.C. (PJM) tendered for filing with the Federal Energy Regulatory Commission (Commission), one signature page to the Reliability Assurance Agreement among Load Serving Entities in the PJM Control Area (RAA) executed by BP Energy; a request for Commission approval of the withdrawal of two parties from the RAA; an amended Schedule 17 of the RAA adding BP Energy to the list of RAA signatories, and deleting the entities that are withdrawing from the RAA; and a Notices of Cancellation for Essential.com, Inc., and Metromedia Energy, Inc. reflecting their withdrawal as signatories to the RAA.

PJM states that it served a copy of its filing on all parties to the RAA, including the parties for which a signature page is being tendered with this filing, the parties that are withdrawing from the RAA, and each of the state electric regulatory commissions within the PJM control area.

Comment date: September 18, 2001, in accordance with Standard Paragraph E at the end of this notice.

9. Xcel Energy Services Inc.

[Docket No. ER01-2935-000]

Take notice that on August 27, 2001 Xcel Energy Services Inc. (XES), on behalf of Northern States Power Companies (NSP) tendered for filing a Short-Term Market-Based Electric Service Agreement between NSP and New Ulm Public Utilities. XES requests that this Short-Term Market-Based Electric Service Agreement be made effective on July 30, 2001.

Comment date: September 17, 2001, in accordance with Standard Paragraph E at the end of this notice.

10. Arizona Public Service Company

[Docket No. ER01-2936-000]

Take notice that on August 27, 2001, Arizona Public Service Company (APS) tendered for filing with the Federal Energy Regulatory Commission (Commission) an Interconnection and Operating Agreement with San Manuel Power Company under APS” Open Access Transmission Tariff.

A copy of this filing has been served on San Manuel Power Company and the Arizona Corporation Commission.

Comment date: September 17, 2001, in accordance with Standard Paragraph E at the end of this notice.

11. Arizona Public Service Company

[Docket No. ER01-2937-000]

Take notice that on August 27, 2001, Arizona Public Service Company (APS) tendered for filing with the Federal Energy Regulatory Commission (Commission) an Interconnection and Operating Agreement with San Manuel Power Company under APS' Open Access Transmission Tariff.

A copy of this filing has been served on San Manuel Power Company and the Arizona Corporation Commission.

Comment date: September 17, 2001, in accordance with Standard Paragraph E at the end of this notice.

12. PJM Interconnection, L.L.C.

[Docket No. ER01-2938-000]

Take notice that on August 27, 2001 PJM Interconnection, L.L.C. (PJM), submitted for filing with the Federal Energy Regulatory Commission (Commission) an executed interconnection service agreements between PJM and Northeast Maryland Waste Disposal Authority.

Copies of this filing were served upon Northeast Maryland Waste Disposal Authority and the state regulatory commissions within the PJM control area.

Comment date: September 17, 2001, in accordance with Standard Paragraph E at the end of this notice.

13. Jersey Central Power & Light Company, Metropolitan Edison Company, Pennsylvania Electric Company

[Docket No. ER01-2939-000]

Take notice that on August 27, 2001, Jersey Central Power & Light Company, Metropolitan Edison Company and Pennsylvania Electric Company (individually doing business as GPU Energy) submitted for filing to the Federal Energy Regulatory Commission (Commission or FERC) a Notice of Cancellation of the Service Agreement between GPU Service Corporation and Pennsylvania Power & Light Company (now PPL Electric Utilities Corporation d/b/a PPL Utilities) FERC Electric Tariff, Original Volume No. 1, Service Agreement No. 5. GPU Energy requests that cancellation be effective October 24, 2001.

Comment date: September 17, 2001, in accordance with Standard Paragraph E at the end of this notice.

14. Cinergy Services, Inc.

[Docket No. ER01-2940-000]

Take notice that on August 27, 2001, Cinergy Services, Inc. tendered for filing with the Federal Energy Regulatory Commission (Commission) an Interconnection Agreement entered into by and between Cinergy Services, Inc. (Cinergy) and Duke Energy Knox, LLC (Duke Energy Knox), and a Facilities Construction Agreement by and between Cinergy and Duke Energy Knox, both of which are dated July 30, 2001.

Cinergy requests an effective date of July 30, 2001 for both the Interconnection Agreement and the Facilities Construction Agreement.

Cinergy states that it has served a copy of its filing upon the Indiana Utility Regulatory Commission and Duke Energy Knox.

Comment date: September 17, 2001, in accordance with Standard Paragraph E at the end of this notice.

15. Xcel Energy Services Inc.

[Docket No. ER01-2941-000]

Take notice that on August 27, 2001 Xcel Energy Services Inc. (XES), on behalf of Northern States Power Companies (NSP Companies) tendered for filing with the Federal Energy Regulatory Commission (Commission) a Rate Schedule for Market-Based Power Sales. XES requests that this Rate Schedule for Market-Based Power Sales be made effective on August 28, 2001.

Comment date: September 17, 2001, in accordance with Standard Paragraph E at the end of this notice.

16. Ameren Services Company

[Docket No. ER01-2943-000]

Take notice that on August 27, 2001, Ameren filed with the Federal Energy Regulatory Commission the cancellation of Non-Firm Point-to-Point Transmission Service Agreement dated June 30, 1998, Docket No. ER98-3715-000.

Copy of the cancellation has been served to Tractebel Energy Marketing, Inc.

Comment date: September 17, 2001, in accordance with Standard Paragraph E at the end of this notice.

17. Ameren Services Company

[Docket No. ER01-2944-000]

Take notice that on August 27, 2001, Ameren filed with the Federal Energy Regulatory Commission the cancellation of Non-Firm Point-to-Point Transmission Service Agreement dated June 30, 1998, Docket No. ER98-3714-000.

Copy of the cancellation has been served to Tractebel Energy Marketing, Inc.

Comment date: September 17, 2001, in accordance with Standard Paragraph E at the end of this notice.

18. Xcel Energy Services Inc.

[Docket No. ER01-2945-000]

Take notice that on August 27, 2001 Xcel Energy Services Inc. (XES), on behalf of Northern States Power Companies (NSP) tendered for filing with the Federal Energy Regulatory Commission (Commission) a Long-Term Market-Based Electric Service Agreement between NSP and New Ulm Public Utilities. XES requests that this Short-Term Market-Based Electric Service Agreement be made effective on July 30, 2001.

Comment date: September 17, 2001, in accordance with Standard Paragraph E at the end of this notice.

19. Virginia Electric and Power Company

[Docket No. ER01-2946-000]

Take notice that Virginia Electric and Power Company (the Company) on August 27, 2001, tendered for filing with the Federal Energy Regulatory Commission (Commission or FERC) the following Service Agreement by Virginia Electric and Power Company to Enron Power Marketing, Inc., designated as Service Agreement No. 3, under the Company's short-form market-based rate tariff, FERC Electric Tariff, Original Volume No. 6.

The foregoing Service Agreement is tendered for filing under the Company's short-form market-based rate tariff, FERC Electric Tariff, Original Volume No. 6, effective on June 15, 2000. The Company requests an effective date of July 25, 2001.

Copies of the filing were served upon Enron Power Marketing, Inc., the Virginia State Corporation Commission, and the North Carolina Utilities Commission.

Comment date: September 17, 2001, in accordance with Standard Paragraph E at the end of this notice.

20. Wisconsin Electric Power Company

[Docket No. ER01-2947-000]

Take notice that on August 27, 2001, Wisconsin Electric Power Company (Wisconsin Electric), tendered for filing a Standby Delivery Service Agreement (Agreement) between Wisconsin Electric and the City of Kiel (the City) under which Wisconsin Electric will provide 24.9 kV standby delivery service to the City. The Agreement is being designated as Wisconsin Electric Power Company Rate Schedule No. 103.

Wisconsin Electric requests waiver of the Commission's notice of filing requirements to allow the Agreement to become effective on January 1, 2001. A refund calculation would result in zero refunds because billings to the customer under this Agreement have not been made as of this filing date.

Copies of the filing have been served on the City, the Michigan Public Service Commission, and the Public Service Commission of Wisconsin.

Comment date: September 17, 2001, in accordance with Standard Paragraph E at the end of this notice.

Standard Paragraph

E. Any person desiring to be heard or to protest such filing should file a motion to intervene or protest with the Federal Energy Regulatory Commission, 888 First Street, NE., Washington, DC. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-22583 Filed 9-7-01; 8:45 am]

BILLING CODE 6717-01-P